DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than April 1, 2021.

Interested persons are invited to submit written comments regarding the subject matter of the investigations to the Administrator, Office of Trade Adjustment Assistance, at the address shown below, not later than April 1, 2021.

The petitions filed in this case are available for inspection at the Office of the Administrator, Office of Trade Adjustment Assistance, Employment and Training Administration, U.S. Department of Labor, Room N-5428, 200 Constitution Avenue NW, Washington, DC 20210.

Signed at Washington, DC, this 10th day of February 2021.
Hope D. Kinglock,
Certifying Officer, Office of Trade Adjustment Assistance.

Appendix

34 TAA Petitions Instituted Between 1/1/21 and 1/31/21
TA-W | Subject firm (petitioners) | Location | Date of institution | Date of petition.
96660 | Precision Aluminum Inc. (Worker) | Wadsworth, OH | 04-Jan-2021 | 31-Dec-2020.
96661 | Aptiv (State Official) | Troy, MI | 04-Jan-2021 | 31-Dec-2020.
96662 | ILSCO LLC (Company Official) | Cincinnati, OH | 06-Jan-2021 | 05-Jan-2021.
96663 | Texas PMW (State Official) | Houston, TX | 08-Jan-2021 | 07-Jan-2021.
96664 | LSC Communications (State Official) | Kendallville, IN | 08-Jan-2021 | 08-Jan-2021.
96665 | J.B. Smith Manufacturing (State Official) | Houston, TX | 08-Jan-2021 | 08-Jan-2021.
96666 | TPL Transition Services (F.K.A. Globe Fire Sprinkler Corp.) (State Official) | Standish, MI | 11-Jan-2021 | 08-Jan-2021.
96667 | SECO/Warwick Corporation (State Official) | Meadville, PA | 11-Jan-2021 | 08-Jan-2021.
96668 | Bonney Forge Texas, L.P/WFI International (State Official) | Houston, TX | 11-Jan-2021 | 08-Jan-2021.
96669 | The Roanoke Times (State Official) | Roanoke, VA | 14-Jan-2021 | 12-Jan-2021.
96670 | Industrial C&S of PR LLC, a legal registered entity in Puerto Rico; it belongs to the firm ABB Ltd (Company Official) | Vieques, PR | 14-Jan-2021 | 12-Jan-2021.
96671 | Tube Forgings of America, Inc. (State Official) | Portland, OR | 15-Jan-2021 | 14-Jan-2021.
96672 | Ormco Corporation (Worker Official) | Pomona, CA | 15-Jan-2021 | 14-Jan-2021.
96673 | Umbra Cuscinetti, Inc. (State Official) | Everett, WA | 19-Jan-2021 | 14-Jan-2021.
96674 | Star Forge LLC (dba Jorgensen Forge) (State Official) | Tukwila, WA | 19-Jan-2021 | 14-Jan-2021.
96675 | Cardinal Health (Company Official) | Fort Mill, SC | 21-Jan-2021 | 19-Jan-2021.
96676 | IBEX Global Solutions, Inc. (State Official) | New Braunfels, TX | 21-Jan-2021 | 08-Jan-2021.
96677 | SunPower Manufacturing Oregon LLC (State Official) | Hillsboro, OR | 22-Jan-2021 | 21-Jan-2021.
96678 | Medtronics/Minimed Distributing (State Official) | San Antonio, TX | 25-Jan-2021 | 15-Jan-2021.
96679 | Rexnord Flatware (State Official) | Grafton, WI | 26-Jan-2021 | 25-Jan-2021.
96680 | JW Aluminum Company (State Official) | Williamsport, PA | 26-Jan-2021 | 25-Jan-2021.
96681 | Equipnet, Inc. (State Official) | Canton, MA | 26-Jan-2021 | 25-Jan-2021.
96682 | AES Corporation (State Official) | Peabody, MA | 26-Jan-2021 | 25-Jan-2021.
96683 | BGF South Hill Multi-Layer Facility (State Official) | South Hill, VA | 26-Jan-2021 | 25-Jan-2021.
96684 | Dayco Products, LLC (State Official) | Williston, SC | 27-Jan-2021 | 26-Jan-2021.
96685 | Cartus Corporation (State Official) | Danbury, CT | 27-Jan-2021 | 27-Jan-2021.
96686 | Ormco/Spark (Worker Official) | Pomona, CA | 27-Jan-2021 | 27-Jan-2021.
96687 | Transform SR LLC (State Official) | Round Rock, TX | 28-Jan-2021 | 27-Jan-2021.
96688 | Torax Medical (State Official) | Saint Paul, MN | 28-Jan-2021 | 27-Jan-2021.
96689 | Transform SR LLC (State Official) | San Antonio, TX | 28-Jan-2021 | 27-Jan-2021.
96690 | HSBC Banking and Technology Services (State Official) | Depew, NY | 28-Jan-2021 | 27-Jan-2021.
96691 | Bed Bath and Beyond (Worker Official) | Ocoee, FL | 28-Jan-2021 | 27-Jan-2021.
96692 | Pereles Brothers, Inc. (State Official) | Milwaukee, WI | 28-Jan-2021 | 27-Jan-2021.
96693 | Viatris Inc. formerly Mylan Pharmaceuticals Inc. (Union Official) | Morgantown, WV | 28-Jan-2021 | 27-Jan-2021

[FR Doc. 2021-05838 Filed 3-19-21; 8:45 am]

BILLING CODE P